DEPARTMENT OF HEALTH AND HUMAN SERVICES

Administration for Children and Families

Proposed Information Collection Activity; Monitoring and Compliance for Office of Refugee Resettlement Care Provider Facilities (Office of Management and Budget #: 0970-0564)

AGENCY: Office of Refugee Resettlement; Administration for Children and Families; Department of Health and Human Services.

ACTION: Request for public comments.

SUMMARY: The Office of Refugee Resettlement (ORR), Administration for Children and Families (ACF), U.S. Department of Health and Human Services (HHS), is inviting public comments on revisions to an approved information collection. The request will allow the Unaccompanied Children (UC) Program to enhance monitoring efforts at staff secure and long-term group home providers and influx care facilities that are not licensed by the state, as well as continue standard monitoring activities that ensure care provider facilities are in compliance with Federal and State laws and regulations, licensing and accreditation standards, ORR policies and procedures, and child welfare standards.

DATES: Comments due within 60 days of publication. In compliance with the requirements of section 3506(c)(2)(A) of the Paperwork Reduction Act of 1995, the Administration for Children and Families is soliciting public comment on the specific aspects of the information collection described above.

ADDRESSES: Copies of the proposed collection of information can be obtained and comments may be forwarded by emailing infocollection@acf.hhs.gov. Identify all requests by the title of the information collection.

SUPPLEMENTARY INFORMATION: Description: ORR is proposing the following revisions to this information collection for the purpose of establishing quarterly health and safety monitoring visits for facilities located in states that are unwilling to license programs provider care to UC. ORR previously published a notice requesting public comment on unlicensed facility monitoring tools for other levels of care, which were recently approved through emergency approval for a period of 180 days. This request is specific to staff secure and long-term group home providers and influx care facilities.

1. Added the following forms specific to staff secure and long-term group home facilities that were previously approved by OMB but were removed from the information collection due to the number of respondents. Note that ORR uses long-term foster care (LTFC) monitoring tools for both LTFC and long-term group home facilities; ORR does not operate unlicensed LTFC programs.

• Unlicensed Facility LTFC Monitoring Notes (Form M-6C-UF)

• Unlicensed Facility LTFC UC Case File Checklist (Form M-8B-UF)

• Unlicensed Facility Staff Secure Addendum to Case File Checklist (Form M-8D-UF)

• Unlicensed Facility Foster Home Onsite Monitoring Checklist (M-9B-UF)

2. Added the below-listed alternate version of a form that was previously approved by OMB but was removed from the information collection due to the number of respondents. Differences between the previously approve version and the alternate version are noted below.

• ICF Monitoring Notes (Form M-6E)

○ Instructs monitors to review the facility's contract and statement of work (as opposed to the grant application and cooperative agreement) to reflect the funding method used for ICFs

○ Removes the following sections that are specific to grants.

Fiscal year budget.

Key positions approved by the Project Officer

○ Instructs monitors to review Serious Incident Reports (SIRs) from the past three months (as opposed to six months for shelters). This revision does not represent a reduction in SIR review, rather it reflects the ongoing SIR review process that occurs for ICFs. Monitors are performing site visits within the first three months of an ICR opening, which means that there would only be three months' worth of SIRs available during the initial site visit. Thereafter, three months will cover review of all SIRs since the last site visit. For example, if an ICF opened at the start of January, the initial site visit would occur by the end of March and SIRs generated from January through March would be reviewed. The next site visit would then occur at the end of June and during that visit SIRs generated April through June would be review. There would be no need to review six months' worth of SIRs at that time because the SIRs generated January through March would have already been reviewed. This pattern of quarterly reviews would continue while the ICF is operational.

○ Reworded questions under the staffing plan section to be more specific to contracts.

○ Added instruction for monitors to ensure that the facility is following their supervision plan (as reported in the ICF Site Visit Guide) for any staff whose background checks are still pending.

○ Removed questions on state licensing.

○ Removed section on mosquito control inspections. These inspections were originally established to address concerns with the Zika virus and are no longer performed.

3. Added the below-listed alternate versions of forms already approved under this information collection. Differences between the already approved versions and the alternate versions are as noted below.

• ICF Monitoring Site Visit Guide (Form M-7G)—Revisions were made to develop a more in-depth guide to reflect the size and complexity of influx sites. ORR plans to pilot this revised guide at ICFs and later decide on whether some or all of these revisions should be made to site visit guides for other levels of care. ORR will seek OMB approval for any future revision to other versions of the site visit guide.

○ Reorganized and grouped questions under different sections, as well as rewording questions and instructions for clarity.

○ Added text boxes and tables to make clear where the ICF should enter information.

○ Added areas for the ICF to provide a brief overview of their site operations and list of subcontractors and their respective scopes of work.

○ Expanded the list of facility points of contact requested.

○ Added areas for the ICF to share any innovative and/or best practices implemented at the site and for the ICF to describe know deficiencies and/or areas for improvement.

○ Added a table in the stakeholders section to prompt the ICF to provide more detail information about the frequency and type of collaboration as well as areas in need of improvement.

○ Expanded section on personnel to include questions about personnel evaluation practices, whistleblower policies, and significant staffing changes, vacancies, deficiencies, and/or barriers to personnel capacity.

○ In addition to providing copies of internal procedures, ICFs are asked to document information about the personnel responsible for internal reviews, protocols for responding to noncompliance, and how the ICF protects child privacy and confidentiality.

○ Expands the question asking for the program's video monitoring policies and procedures to include all perimeter and internal security mechanisms.

○ In addition to providing copies of emergency and evacuation plans, programs are asked to describe related procedures and provide information on emergency drills and after-action reviews.

○ Added area for programs to describe their safety inspection practices and related drills, as well as an area to note concerns/deficiencies related to safety and security.

○ Added questions on the program's procedures for staffing cases, case status updates, and how case managers coordinate with other discipline (e.g., clinical).

○ Split the question asking for the programs discharge procedures into several questions that prompt the program to specifically provide information about their procedures for transfers, age redetermination cases, and managing age outs.

○ Added question that requests the program's procedures on facilitating visits among children in care.

○ Added question asking the program to note any complex or especially vulnerable cases that required specialized service coordination.

○ Added question asking the program to note any concerns/deficiencies related to case management.

○ Added new section on child supervision that asks for program's procedures on supervision plans and direct care staffing ratios, determining room/bed assignments, accurately monitoring the location of the child, and behavior management.

○ Expanded the section that asks for a description of ancillary services to include recreational/leisure, religious, languages access, and phone call, visitation, and mail services (in addition to education and transportation).

○ In addition to requesting copies of nutritional services procedures, adds a section for programs to describe these services. This includes food storage and safety protocols, how child dietary needs are meet, how cultural and religious preferences are meet, and any concerns/deficiencies.

○ Expands the medical services section to add questions asking the program to describe their medical intakes procedures, onsite medical services, medication administration protocols, medical records system, the process for referring a child for offsite medical services, and vaccination procurement and administration protocols.

○ Expands the mental health services section to add questions asking the program to describe their mental health intake procedures and onsite mental health services.

○ In addition to requesting copies of prevention of sexual abuse procedures and related materials, asks the program to describe several specific aspects of their procedures.

○ Breaks the general question asking the program to describe their SIR procedures into several more specific questions on who the responsible parties are for submitting reports, follow-up/addendums, and notification/coordination with external entities.

○ Adds a new question asking the program how long it took to complete the form.

• ICF Personnel File Checklist (Form M-10E)—No differences. The ICF and standard shelter versions are identical.

For information about all currently approved forms under this OMB number, see: https://www.reginfo.gov/public/do/PRAViewICR?ref_nbr=202211-0970-002.

Respondents: ORR grantee and contractor staff; UC; and other Federal agencies.

Annual Burden Estimates

Note: These burden estimates include burdens related to the revisions described above and currently approved forms for which we are not proposing any changes.

Estimated Burden Hours for Respondents
Information collection title | Annual number of respondents | Annual number of responses per respondent | Average burden hours per response | Annual total burden hours
Corrective Action Report (Form M-1) | 262 | 0.4 | 5.00 | 524.00
FFS Compliance and Safety Site Visit Report (Form M-3A) | 262 | 12.0 | 1.00 | 3,144.00
Out-of-Network Site Visit Report (Form M-3B) | 24 | 5.0 | 1.00 | 120.00
Checklist for a Child-Friendly Environment (Form M-4) | 262 | 12.0 | 0.25 | 786.00
Incident Reviews (Forms M-5A to M-5B) | 262 | 0.3 | 1.50 | 117.90
Site Visit and Remote Monitoring Site Visit Guides (Forms M-7A to M-7B) | 114 | 1.0 | 13.00 | 1,482.00
LTFC Site Visit and LTFC Remote Monitoring Site Visit Guides (Forms M-7C to M-7D) | 18 | 1.0 | 6.00 | 108.00
Home Study and Post-Release Services Site Visit Guide (Form M-7E) | 30 | 1.0 | 6.00 | 180.00
Voluntary Agency Site Visit Guide (Form M-7F) | 5 | 1.0 | 8.00 | 40.00
ICF Monitoring Site Visit Guide (Form M-7G) | 3 | 1.0 | 15.00 | 45.00
Unlicensed Facility Site Visit Guide (Form M-7A-UF) | 56 | 4.0 | 1.00 | 224.00
Unlicensed Facility UC Case File Checklist (Form M-8A-UF) | 56 | 20.0 | 1.00 | 1,120.00
Unlicensed Facility LTFC UC Case File Checklist (Form M-8B-UF) | 1 | 20.0 | 1.00 | 20.00
Unlicensed Facility Staff Secure Addendum to Case File Checklist (Form M-8D-UF) | 2 | 20.0 | 1.00 | 40.00
Program Staff Questionnaires (Forms M-11A to M-11K) | 917 | 1.0 | 1.00 | 917.00
Secure Detention Officer Questionnaire (Form M-11L) | 1 | 1.0 | 1.00 | 1.00
Long Term Foster Care Home Finder Questionnaire (Form M-11M) | 18 | 1.0 | 1.00 | 18.00
Long Term Foster Care Independent Living Life Skills Staff Questionnaire (Form M-11N) | 18 | 1.0 | 1.00 | 18.00
Long Term Foster Care Foster Parent Questionnaire (form M-11O) | 35 | 1.0 | 0.75 | 26.25
Interpreter Questionnaire (Form M-11P) | 115 | 2.0 | 0.50 | 115.00
Unlicensed Facility Program Staff Questionnaires (Forms M-11A-UF to M-11K-UF) | 56 | 32.0 | 1.00 | 1,792.00
Unlicensed Facility Interpreter Questionnaire (Form M-11P-UF) | 56 | 4.0 | 0.50 | 112.00
UC Questionnaires (Forms M-12A to M-12B & M-12E) | 563 | 1.0 | 0.50 | 281.50
Long Term Foster Care Client Questionnaire (M-12C) | 88 | 1.0 | 0.50 | 44.00
Secure Client Questionnaire (Form M-12D) | 5 | 1.0 | 0.50 | 2.50
Unlicensed Facility UC Questionnaires (Forms M-12A-UF to M-12B-UF & M-12E-UF) | 1,120 | 1.0 | 0.50 | 560.00
Home Study and Post-Release Services Director Questionnaire (Form M-13A) | 30 | 1.0 | 1.00 | 30.00
Home Study and Post-Release Services Caseworker Questionnaire (Form M-13B) | 90 | 1.0 | 1.00 | 90.00
Legal Service Provider Questionnaire (Form M-13C) | 114 | 1.0 | 1.00 | 114.00
Long Term Foster Care Legal Service Provider Questionnaire (Form M-13D) | 18 | 1.0 | 0.75 | 13.50
Case Coordinator Questionnaire (Form M-13E) | 131 | 1.0 | 1.00 | 131.00
Unlicensed Facility Legal Service Provider Questionnaire (Form M-13C-UF) | 224 | 1.0 | 1.00 | 224.00
Unlicensed Facility Case Coordinator Questionnaire (Form M-13E-UF) | 224 | 1.0 | 1.00 | 224.00
Preaudit Questionnaire and Audit Documentation Requested Checklist (Form M-17A) | 78 | 1.0 | 4.00 | 312.00
Instructions for Site Visit and Facility Tour (Form M-17B) | 78 | 1.0 | 2.00 | 156.00
Interview Guide: Random Sample of Staff Interview (Form M-17C) | 312 | 1.0 | 1.00 | 312.00
Interview Guide: Program Director (Form M-17D) | 78 | 1.0 | 1.00 | 78.00
Interview Guide: PSA Compliance Manager (Form M-17E) | 78 | 1.0 | 1.00 | 78.00
Interview Guide: Specialized Staff (Form M-17F) | 156 | 1.0 | 1.00 | 156.00
Interview Guide: Unaccompanied Child (Form M-17G) | 780 | 1.0 | 0.50 | 390.00
PSA Audit Corrective Action Report (Form M-17H) | 78 | 1.0 | 1.00 | 78.00
Estimated Annual Burden Hours Total |  |  |  | 14,224.65

Estimated Burden Hours for Contractor Interim Final Rule Auditors
Information collection title | Annual number of respondents | Annual number of responses per respondent | Average burden hours per response | Annual total burden hours
Preaudit Questionnaire and Audit Documentation Requested Checklist (Form M-17A) | 8 | 48.0 | 3.00 | 1,152.00
Instructions for Site Visit and Facility Tour (Form M-17B) | 8 | 48.0 | 1.00 | 384.00
Interview Guide: Random Sample of Staff Interview (Form M-17C) | 8 | 48.0 | 1.00 | 384.00
Interview Guide: Program Director (Form M-17D) | 8 | 48.0 | 1.00 | 384.00
Interview Guide: PSA Compliance Manager (Form M-17E) | 8 | 48.0 | 1.00 | 384.00
Interview Guide: Specialized Staff (Form M-17F) | 8 | 48.0 | 1.00 | 384.00
Interview Guide: Unaccompanied Child (Form M-17G) | 8 | 48.0 | 0.50 | 192.00
PSA Audit Corrective Action Report (Form M-17H) | 8 | 48.0 | 2.00 | 768.00
Estimated Annual Burden Hours Total: |  |  |  | 4,032.00

Estimated Burden Hours For Contractor Monitors—Unlicensed Facilities
Information collection title | Annual number of respondents | Annual number of responses per respondent | Average burden hours per response | Annual total burden hours
Unlicensed Facility Monitoring Notes (Form M-6A-UF) | 18 | 12.0 | 12.00 | 2,592.00
Unlicensed Facility LTFC Monitoring Notes (Form M-6C-UF) | 18 | 0.2 | 12.00 | 43.20
ICF Monitoring Notes (Form M-6E-UF) | 18 | 0.7 | 12.00 | 151.20
Unlicensed Facility Site Visit Guide (Form M-7A-UF) | 18 | 12.0 | 29.00 | 6,264.00
ICF Monitoring Site Visit Guide (Form M-7G) | 18 | 0.7 | 29.00 | 365.40
Unlicensed Facility UC Case File Checklist (Form M-8A-UF) | 18 | 62.0 | 6.00 | 6,696.00
Unlicensed Facility LTFC UC Case File Checklist (Form M-8B-UF) | 18 | 1.0 | 6.00 | 108.00
Unlicensed Facility Staff Secure Addendum to Case File Checklist (Form M-8D-UF) | 18 | 2.0 | 6.00 | 216.00
Unlicensed Facility Onsite Monitoring Checklist (Form M-9A-UF) | 18 | 12.0 | 4.00 | 864.00
Unlicensed Facility Foster Home Onsite Monitoring Checklist (M-9B-UF) | 18 | 0.4 | 4.00 | 28.80
Unlicensed Facility Personnel File Checklist (Form M-10A-UF) | 18 | 50.0 | 1.00 | 900.00
ICF Personnel File Checklist (Form M-10E) | 18 | 3.0 | 1.00 | 54.00
Unlicensed Facility Program Staff Questionnaires (Forms M-11A-UF to M-11K-UF) | 18 | 100.0 | 1.00 | 1,800.00
Unlicensed Facility Interpreter Questionnaire (Form M-11P-UF) | 18 | 12.0 | 0.50 | 108.00
Unlicensed Facility UC Questionnaires (Forms M-12A-UF to M-12B-UF & M-12E-UF) | 18 | 62.0 | 0.50 | 558.00
Unlicensed Facility Legal Service Provider Questionnaire (Form M-13C-UF) | 18 | 12.0 | 0.75 | 162.00
Unlicensed Facility Case Coordinator Questionnaire (Form M-13E-UF) | 18 | 12.0 | 1.00 | 216.00
Estimated Annual Burden Hours Total: |  |  |  | 21,126.60

Estimated Burden Hours for Contractor Monitors—Previously Approved for Licensed Facilities
Information collection title | Annual number of respondents | Annual number of responses per respondent | Average burden hours per response | Annual total burden hours
Corrective Action Report (Form M-1) | 4 | 25.0 | 22.00 | 2,200.00
Site Visit and Remote Monitoring Site Visit Guides (Forms M-7A to M-7B) | 4 | 7.0 | 29.00 | 812.00
LTFC Site Visit and LTFC Remote Monitoring Site Visit Guides (Forms M-7C to M-7D) | 4 | 1.0 | 21.00 | 84.00
Home Study and Post-Release Services Site Visit Guide (Form M-7E) | 4 | 2.0 | 21.00 | 168.00
Voluntary Agency Site Visit Guide (Form M-7F) | 4 | 0.4 | 28.00 | 44.80
Personnel File Checklist (Form M-10A) | 4 | 31.0 | 1.00 | 124.00
Supplement to Personnel File Checklist (Form M-10B) | 4 | 54.0 | 1.00 | 216.00
Home Study and Post-Release Services Personnel File Checklist (Form M-10C) | 4 | 6.0 | 1.00 | 24.00
Long Term Foster Care Foster Parent Checklist (Form M-10D) | 4 | 2.0 | 0.50 | 4.00
Program Staff Questionnaires (Forms M-11A to M-11K) | 4 | 54.0 | 1.00 | 216.00
Secure Detention Officer Questionnaire (Form M-11L) | 4 | 0.1 | 1.00 | 0.40
Long Term Foster Care Home Finder Questionnaire (Form M-11M) | 4 | 1.0 | 1.00 | 4.00
Long Term Foster Care Independent Living Life Skills Staff Questionnaire (Form M-11N) | 4 | 1.0 | 1.00 | 4.00
Long Term Foster Care Foster Parent Questionnaire (form M-11O) | 4 | 2.0 | 0.75 | 6.00
UC Questionnaires (Forms M-12A to M-12B & M-12E) | 4 | 33.0 | 0.50 | 66.00
Long Term Foster Care Client Questionnaire (M-12C) | 4 | 5.0 | 0.50 | 10.00
Secure Client Questionnaire (Form M-12D) | 4 | 0.4 | 0.50 | 0.80
Home Study and Post-Release Services Director Questionnaire (Form M-13A) | 4 | 2.0 | 0.50 | 4.00
Home Study and Post-Release Services Caseworker Questionnaire (Form M-13B) | 4 | 6.0 | 1.00 | 24.00
Legal Service Provider Questionnaire (Form M-13C) | 4 | 7.0 | 1.00 | 28.00
Long Term Foster Care Legal Service Provider Questionnaire (Form M-13D) | 4 | 1.0 | 0.75 | 3.00
Case Coordinator Questionnaire (Form M-13E) | 4 | 8.0 | 1.00 | 32.00
Monitoring Visit (Form M-14) | 4 | 8.0 | 0.50 | 16.00
Monitoring Schedule (Form M-15) | 4 | 0.3 | 0.30 | 0.36
Estimated Annual Burden Hours Total: |  |  |  | 4,091.36

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

John M. Sweet, Jr.
ACF/OPRE Certifying Officer.

[FR Doc. 2023-05756 Filed 3-20-23; 8:45 am]

BILLING CODE 4184-45-P